DEPARTMENT OF TRANSPORTATION

Coast Guard

[USCG-2000-7465]

Recreational Boating Safety Projects, Programs and Activities Funded Under Provisions of the Transportation Equity Act for the 21st Century; Accounting of

AGENCY: Coast Guard, DOT.

ACTION: Notice.

SUMMARY: Subsection (c) of section 7405 of the Transportation Equity Act for the 21st Century makes $5,000,000 available each of five fiscal years to the Secretary of Transportation for personnel and activities directly related to coordinating and carrying out the national recreational boating safety program. The Act also requires that the Secretary publish annually in the Federal Register a detailed accounting of the projects, programs, and activities under this subsection. This is the first report.

ADDRESSES: You may obtain a copy of this notice by calling the U. S. Coast Guard Infoline at 1-800-368-5647. This notice is available on the Internet at http://dms.dot.gov or at the Web Site for the Office of Boating Safety at URL address www.uscgboating.org.

FOR FURTHER INFORMATION CONTACT: Captain Michael F. Holmes, USCG, Chief, Office of Boating Safety, telephone 202-267-1077, fax 202-267-4285, or Mr. Albert J. Marmo, Chief, Program Management Division, telephone 202-267-0950, fax 202-267-4285.

SUPPLEMENTARY INFORMATION: The Transportation Equity Act for the 21st Century became law on June 9, 1998. The Act requires that of the $5 million made available to carry out the national recreational boating safety program, $2,000,000 shall be available only to ensure compliance with chapter 43 of title 46, U.S. Code—Recreational Vessels. This responsibility is delegated to the Commandant of the United States Coast Guard. The statute directs that no funds available to the Secretary under this subsection may be used to replace funding traditionally provided through general appropriations, nor for any purposes except those purposes authorized by this section. Amounts made available each fiscal year, 1999-2003, shall remain available until expended. Upon passage of the Act the U.S. Coast Guard Office of Boating Safety began the process of developing basic spending plans for this new source of revenue. For accounting purposes, funding was divided into two program elements: Boat Safety Compliance and National Recreational Boating Safety Program. Use of these funds entails compliance with standard Federal contracting rules with associated lead and processing times resulting in a lag time between available funds and spending. An accounting of the use of the funds to date follows, including a narrative summary and a table that reflects commitment, obligation, or expenditure of fiscal years 1999 and 2000 funds.

Boat Safety Compliance

Factory Visit Program

A contract was awarded to establish a national recreational boat factory visit program using contractor personnel. The contract includes the development of a plan of action and a pilot program to validate the elements of the plan and the concept of the program. The plan was completed at a cost of $133,912.55 using fiscal year 1999 funding. The pilot program will commence in the summer of 2000. The factory visit program will allow contractor personnel, acting on behalf of the Coast Guard, to visit approximately 2,000 recreational boat manufacturers each year to communicate with the manufacturers as to why they need to comply with the Federal regulations, educate them, as necessary, on how to comply with the Federal regulations, and inspect for compliance with the Federal regulations.

Associated Equipment Compliance Testing

Currently, the Office of Boating Safety conducts compliance testing by purchasing recreational boats in the open market and testing them for compliance with the Federal flotation standards. As a new initiative, the Office of Boating Safety is planning to buy recreational boat “associated equipment,” e.g., starters, alternators, fuel pumps, bilge pumps, etc., and test this equipment for compliance with Federal safety regulations. The anticipated annual cost of this multi-year effort is estimated at $100,000. To date $44,000 of fiscal year 1999 funds have been expended, and $83,000 of fiscal year 2000 funds has been committed for this testing.

Articulated Mannequins/Computer Simulation Model

The objective of this multi-year program is to improve the safety of recreational boaters by encouraging the design of new/unique personal flotation devices (PFDs) through the development of a computer simulation program to evaluate the effectiveness of new/unique PFD designs. The computer simulation program will be validated through the use of a family of anthropomorphic articulated mannequins. Fiscal year 1999 funding for this effort is $300,000.

Compliance Associated Travel

Travel is being performed to carry out additional compliance actions and to gather background and planning information for proposed compliance initiatives or to research possible new compliance initiatives. Fiscal year 1999 funding for this travel has amounted to $13,332.44.

New Boat Manufacturer Outreach Package

A fiscal year 1999 contract for $357,582.34 was awarded to design and develop a comprehensive and user friendly outreach package for distribution to new recreational boat manufacturers. Included will be a brochure and video that will outline the many facets of the recreational boat manufacturing business, including, Federal regulations, voluntary standards, self-certification, financial aspects, insurance concerns, liability issues, points of contact and the steps necessary to become a new recreational boat manufacturer. The package will also include plain language guidelines that help clarify Federal requirements. The new outreach package is expected to increase the level of compliance with the Federal regulations among new recreational boat manufacturers.

Risk Analysis Study

This effort will develop a risk-based compliance approval process for Personal Flotation Devices (PFDs) using a Life Saving Index methodology. Fiscal year 1999 funding for this project amounted to $229,465.64. The results of this effort will provide a formal structure and consistency to the process for accepting new approaches to designing devices for drowning prevention. The risk-based process identifies critical factors for evaluating PFD lifesaving potential and defines the minimum level of performance necessary for approval.

Virtual Reality Personal Watercraft (PWC)

A contract was awarded to develop a virtual reality personal watercraft. If this application of virtual reality technology proves to be effective it will provide a platform to gather valuable data in many areas that would otherwise be unobtainable or would require more costly methods and sources. The data from this effort will give greater insight into the human/machine interface related to PWC and will assist in the effort to attempt to reduce PWC accidents. The contract award amount using fiscal year 2000 funds was $133,620.

National Recreational Boating Safety Program

Boating Accident Report Database (BARD)

The BARD system is aimed at effectively providing the capability to all States and the Coast Guard for the successful exchange of recreational boating accident data and information using BARD software. New fiscal year 1999 funding of $392,234 allows software module development, software module rework and unit testing, module integration testing and system testing associated with this innovative program, and for providing the software to the 50 States, five territories, and the District of Columbia.

Transfer of Funds to the Seventeenth Coast Guard District

A non-recurring transfer of $25,000 fiscal year 1999 funds was made to the Seventeenth Coast Guard District in support of a Coast Guard Boating Safety Detachment to assist in the transition of State of Alaska assumption of Recreational Boating Safety Program responsibilities.

National Boating Registration System

As a service for States/Territories that currently have inadequate (or no) computer software program to maintain their vessel numbering system information, $24,000 has been transferred to the U.S. Coast Guard Operations Systems Center (OSC) to develop a National Boating Registration System software program. OSC will modify an existing program currently used by the Coast Guard in Alaska (the only State that does not have a Coast Guard-approved vessel numbering system) to develop a generic version that can easily be adapted by any State/Territory for their own use. The software, which will be provided to interested States/Territories at no cost, will include a function to automatically generate the annual report on numbered vessels that must be submitted to the Coast Guard each year, which currently can be a very time-consuming process for States whose systems are not automated. The current schedule calls for delivery of the beta version system in July 2000.

Federal Requirements Publication

A customer friendly “Federal Requirements and Safety Tips for Recreational Boaters” publication is being developed based on easy to read high visibility graphics, focusing on provision of subject specific safety tips with retention factors built in. Support for this effort using fiscal year 1999 funds is $73,000. The Coast Guard anticipates expanding this development effort and intends to evaluate recreational boater retention factors for Federal regulations in August 2000. The end result will be publication of both hard copy and electronic interactive versions for public use.

Coast Guard Infoline/Office of Boating Safety Website

This effort provides both technology and educational enhancements to the Coast Guard Infoline, a toll free 800 telephone number (including a dedicated line for the hearing impaired) accessible to callers anywhere in the United States. The Infoline provides information about safety, regulations, communications, Coast Guard policy, and available material related to boating safety issues. Additionally, this effort provides a complete interactive recreational boating safety website that offers the public and boating safety agencies and organizations with up-to-the-minute information on every aspect of recreational boating safety. One of the goals of this program is to create a “one-stop” customer service center for all users. Fiscal year 1999 funding amounted to $186,435.

Marine Dealer Display Kiosks

An expenditure of $23,950 of fiscal year 1999 funds supports the Hunters and Anglers Outreach Program and supplies marine dealers with U.S. Coast Guard and U.S. Coast Guard Auxiliary literature display racks, including associated boating safety information pertaining to the hazards associated with Boating Under the Influence (BUI) as well as discipline specific information to this target group. Additional target group research and testing will be conducted during calendar year 2000 validating outreach components. This research will result in the release of a national “point-of-purchase” kiosk system, serving as an extension to the Office of Boating Safety's “one-stop” information system.

There are three new projects that are in final stages for commitment of funds.

The Vessel Safety Check Program

Fiscal year 2000 funding, estimated at less than $50,000 will be used to support the efforts of the U.S. Coast Guard Auxiliary, U.S. Power Squadrons and the National Association of State Boating Law Administrators in providing free safety inspections of recreational boats. The “safety check” provides a complete review of a recreational vessel ensuring that the vessel is in compliance with all Federal and State specific carriage requirements. Ultimately the end result will lead to fewer recreational boating accidents, injuries and fatalities.

Knowledge Management System and SEAFIT (State Electronic Administrative, Financial and Information Technology System)

This effort will enable the Coast Guard to reduce the amount of paper transactions required and obtained by its external customers. The States are one of the Coast Guard's largest external customer groups. The Knowledge Management and SEAFIT systems will provide for quicker more effective and efficient program oversight while providing each customer with the ability to electronically do business with the Coast Guard. This system will assist in the electronic monitoring, storage and daily use of all multi-disciplined information and materials within the Office of Boating Safety. We plan to convert current business processes that support activity in grant administration, program oversight, financial payments and requested program information to an electronic format and be web-based compatible.

National Boating Survey

The contracting process is being initiated for a comprehensive major national recreational boating survey. The survey will provide information on boats, boaters and their activities. In order to avoid taking the large amount of money required for a large-scale survey from available funds for a single fiscal year, we will escrow funds each year. We placed $900,000 of fiscal year 1999 funds and $400,000 of fiscal year 2000 funds in escrow.

The following table reflects commitment, obligation, or expenditure to date of fiscal years 1999 and 2000 funds.

Recreational Boating Safety Programs Accounting
| FY 1999 | FY 2000
Boat Safety Compliance
Factory visit program | $133,912.55 |
Associated equipment compliance testing | 44,000.00 | $83,000.00
Articulated mannequins/computer simulation model | 300,000.00 |
Compliance associated travel | 13,332.44 |
New boat manufacturer outreach package | 357,582.34 |
Risk analysis study | 229,465.64 |
Virtual reality personal watercraft |  | 133,620.00
Total boat safety compliance | 1,078,292.97 | 216,620.00
National Recreational Boating Safety Program
Boating accident report database (BARD) | 392,234.00 |
17th CG District boating safety detachment | 25,000.00 |
National boating registration system | 24,000.00 |
Federal requirements publication | 73,000.00 |
CG Infoline/Office of boating safety website | 186,435.00 |
Marine dealer display kiosks | 23,950.00 |
Total recreational boating safety | 724,619.00 |
National boating survey escrow | 900,000.00 | 400,000.00
Grand total | 2,702,911.97 | 616,620.00
Note: This Chart Shows FY 1999 and FY 2000 Dedicated Funds Committed, Obligated, or Expended for the Individual Projects Listed.

Dated: June 2, 2000.
Kenneth T. Venuto,
Rear Admiral, U.S. Coast Guard, Director of Operations Policy.

[FR Doc. 00-14362 Filed 6-6-00; 8:45 am]

BILLING CODE 4910-15-P